COMMISSION ON CIVIL RIGHTS

Agenda and Notice of Public Meeting of the Maryland Advisory Committee to the U.S. Commission on Civil Rights

Notice is hereby given, pursuant to the provisions of the rules and regulations of the U.S. Commission on Civil Rights (Commission) and the Federal Advisory Committee Act (FACA) that a planning meeting of the of the Maryland Advisory Committee to the U.S. Commission on Civil Rights will convene by conference call at 10:30 a.m. (Eastern Time) on Tuesday, July 26, 2011. The purpose of the meeting is for the Maryland Advisory Committee to discuss and select a topic for its civil rights project.

This conference call is available to the public through the following call-in number: (800) 399-0013 followed by the conference ID No.: 80874419. Any interested member of the public may call this number and listen to the meeting. Callers can expect to incur charges made over wireless lines, and the Commission will not refund those incurred charges. Callers will incur no charge for calls using the call-in number over land-line connections. Persons with hearing impairments may also follow the proceedings by dialing 711 for relay services and entering (800) 399-0013 followed by the Conference ID No.: 80874419. To ensure that the Commission secures an appropriate number of lines for the public, persons are asked to contact the Eastern Regional Office 10 days before the meeting date either by e-mail at ero@usccr.gov or by phone at (202) 376-7533.

Members of the public are entitled to submit written comments; the comments must be received in the regional office by August 26, 2011. Comments may be mailed to the Eastern Regional Office, U.S. Commission on Civil Rights, 624 9th Street, NW., Suite 740, Washington, DC 20425, faxed to (202) 376-7548, or e-mailed to ero@usccr.gov. In addition, persons who desire additional information may contact Ivy L. Davis, Director, Eastern Regional Office, at (202) 376-7533.

Records generated from this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the rules and regulations of the Commission and FACA.

Dated in Washington, DC, July 6, 2011.
Peter Minarik,
Acting Chief, Regional Programs Coordination Unit.

[FR Doc. 2011-17284 Filed 7-8-11; 8:45 am]

BILLING CODE 6335-01-P